DEPARTMENT OF TRANSPORTATION

Federal Aviation Administration

14 CFR Part 39

[Docket No. 2000-CE-53-AD; Amendment 39-11887; AD 2000-18-02]

RIN 2120-AA64

Airworthiness Directives; Raytheon Aircraft Company Models A65, A65-8200, 65-B80, 70, 95-A55, 95-B55, 95-C55, D55, E55, 56TC, A56TC, 58, 58P, 58TC, and 95-B55B (T42A) Airplanes

AGENCY: Federal Aviation Administration, DOT.

ACTION: Final rule; request for comments.

SUMMARY: This amendment adopts a new airworthiness directive (AD) that applies to certain Raytheon Aircraft Company (Raytheon) Models A65, A65-8200, 65-B80, 70, 95-A55, 95-B55, 95-C55, D55, E55, 56TC, A56TC, 58, 58P, 58TC, 95-B55B (T42A) airplanes. This AD requires replacement of certain elevator skin assemblies that Raytheon shipped from January 1, 1999, through December 31, 1999, and prevents the future installation of these elevator skin assemblies. This AD authorizes the pilot to check the logbooks to determine whether one of these elevator skin assemblies is installed. This AD is the result of reports that certain elevator skin assemblies did not receive a 250-degree Fahrenheit bake operation after corrosion treatment, thus making the skin susceptible to separation from the elevator assembly. The actions specified by this AD are intended to detect and correct potential elevator skin separation, which would lead to a reduction in static strength capability with continued operation. This could then result in potential airplane flutter with consequent loss of control of the airplane.

DATES: This AD becomes effective on September 22, 2000.

The Director of the Federal Register approved the incorporation by reference of certain publications listed in the regulation as of September 22, 2000.

The Federal Aviation Administration (FAA) must receive any comments on this rule on or before October 27, 2000.

ADDRESSES: Submit comments in triplicate to FAA, Central Region, Office of the Regional Counsel, Attention: Rules Docket No. 2000-CE-53-AD, 901 Locust, Room 506, Kansas City, Missouri 64106.

You may get the service information referenced in this AD from the Raytheon Aircraft Company, P.O. Box 85, Wichita, Kansas 67201-0085; telephone: (800) 429-5372 or (316) 676-3140. You may examine this information at FAA, Central Region, Office of the Regional Counsel, Attention: Rules Docket No. 2000-CE-53-AD, 901 Locust, Room 506, Kansas City, Missouri 64106; or at the Office of the Federal Register, 800 North Capitol Street, NW., suite 700, Washington, DC.

FOR FURTHER INFORMATION CONTACT: Gary D. Park, Aerospace Engineer, FAA, Wichita Aircraft Certification Office, 1801 Airport Road, Mid-Continent Airport, Wichita, Kansas 67209; telephone: (314) 946-4123; facsimile: (314) 946-4407.

SUPPLEMENTARY INFORMATION:

Discussion

What events have caused this AD? The FAA has received a report that certain Raytheon elevator assemblies did not receive a 250-degree Fahrenheit bake operation after corrosion treatment as defined in the manufacturing specification. The elevator assemblies in question were manufactured between January 1, 1999, and December 31, 1999, and could be installed on the following Raytheon Model Beech airplanes:

Model | Serial Nos.
A65 | LC-265 through LC-272 and LC-325 through LC-335.
A65-8200 | LC-273 through LC-324.
65-B80 | LD-349 through LD-511.
70 | LB-1 through LB-35.
95-A55 | TC-191 through TC-349, TC-351 through TC-370, and TC-372 through TC-501.
95-B55 | TC-371 and TC-502 through TC-2406.
95-C55 | TC-350, TE-1 through TE-49, and TE-51 through TE-451.
D55 | TE-452 through TE-767.
E55 | TE-768 through TE-1201.
56TC | TG-2 through TG-83.
A56TC | TG-84 through TG-94.
58 | TH-1 through TH-1930.
58P | TJ-3 through TJ-435 and TJ-437. through TJ-443.
58TC | TK-1 through TK-150.
95-B55B (T42-A) | TF-1 through TF-70.

The omission of this bake operation affects the strength of the adhesive bond. This could cause the skin to separate from the elevator assembly.

What are the consequences if the condition is not corrected? Continued airplane operation after elevator skin separation would result in reduced static strength capability. This could then result in potential airplane flutter with consequent loss of control of the airplane.

Relevant Service Information

Is there service information that applies to this subject? Raytheon has issued Mandatory Service Bulletin SB 27-3396, Rev. 1, Revised: June, 2000.

What are the provisions of this service bulletin? This service bulletin includes procedures for:

• Determining whether one of the affected elevator assemblies is installed;

• Accomplishing a tap test to determine the elevator skin bond integrity; and

• Replacing any elevator assembly that Raytheon delivered between January 1, 1999, and December 31, 1999.

The FAA's Determination and an Explanation of the Provisions of the AD

What has FAA decided? After examining the circumstances and reviewing all available information related to the incidents described above, including the relevant service information, FAA has determined that:

• An unsafe condition exists or could develop on certain Raytheon Models A65, A65-8200, 65-B80, 70, 95-A55, 95-B55, 95-C55, D55, E55, 56TC, A56TC, 58, 58P, 58TC, and 95-B55B (T42A) airplanes of the same type design;

• The actions and procedures in the previously referenced service bulletin should be incorporated on these airplanes; and

• AD action should be taken in order to detect and correct potential elevator skin separation, which would lead to a reduction in static strength capability with continued operation. This could then result in potential airplane flutter with consequent loss of control of the airplane.

What does this AD require? This AD requires replacement of certain elevator skin assemblies that Raytheon shipped from January 1, 1999, through December 31, 1999, and prevents the future installation of these elevator skin assemblies. This AD authorizes the pilot to check the logbooks to determine whether one of these elevator skin assemblies is installed.

Will I have the opportunity to comment prior to the issuance of the rule? Because the unsafe condition described in this document could result in airplane flutter with consequent loss of control of the airplane, FAA finds that notice and opportunity for public prior comment are impracticable. Therefore, good cause exists for making this amendment effective in less than 30 days.

Comments Invited

How do I comment on this AD? Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are there any specific portions of the AD I should pay attention to? The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

The FAA is reviewing the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-53-AD.” We will date stamp and mail the postcard back to you.

Regulatory Impact

Does this AD impact relations between Federal and State governments? These regulations will not have a substantial direct effect on the States, on the relationship between the national Government and the States, or on the distribution of power and responsibilities among the various levels of government. Therefore, FAA has determined that this final rule does not have federalism implications under Executive Order 13132.

Does this AD involve a significant rule or regulatory action? The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-18-02 Raytheon Aircraft Company: Amendment 39-11887; Docket No. 2000-CE-53-AD.

(a) What airplanes are affected by this AD? The following model airplanes and serial numbers, certificated in any category:

Model | Serial Nos.
A65 | LC-265 through LC-272 and LC-325 through LC-335.
A65-8200 | LC-273 through LC-324.
65-B80 | LD-349 through LD-511.
70 | LB-1 through LB-35.
95-A55 | TC-191 through TC-349, TC-351 through TC-370, and TC-372 through TC-501.
95-B55 | TC-371 and TC-502 through TC-2406.
95-C55 | TC-350, TE-1 through TE-49, and TE-51 through TE-451.
D55 | TE-452 through TE-767.
E55 | TE-768 through TE-1201.
56TC | TG-2 through TG-83.
A56TC | TG-84 through TG-94.
58 | TH-1 through TH-1930.
58P | TJ-3 through TJ-435 and TJ-437 through TJ-443.
58TC | TK-1 through TK-150.
95-B55B (T42-A) | TF-1 through TF-70.

(b) Who must comply with this AD? Anyone who wishes to operate any of the above airplanes on the U.S. Register must comply with this AD.

(c) What problem does this AD address? The actions required by this AD are intended to detect and correct potential elevator skin separation, which would lead to a reduction in static strength capability with continued operation. This could then result in potential airplane flutter with consequent loss of control of the airplane.

(d) What must I do to address this problem? To address this problem, you must accomplish the following actions:

Action | Compliance time | Procedures
(1) Maintenance Records Check:
(i) The owner/operator holding at least a private pilot certificate as authorized by section 43.7 of the Federal Aviation Regulations (14 CFR 43.7) may check the maintenance records to determine whether one of the affected elevator skin assemblies (particular part numbers referenced in the applicable service information) was installed after December 31, 1998 | Required within 1 month after September 22, 2000 (the effective date of this AD) | No special procedures required to check the logbook. Raytheon Mandatory Service Bulletin SB 27-3396, Rev. 1, Issued: May, 2000; Revised: June, 2000, references this maintenance records check.
(ii) If, by checking the maintenance records, the pilot can positively show that one of the elevator skin assemblies (particular part numbers referenced in the applicable service information), is not installed or was installed prior to January 1, 1999, then the replacement requirement of paragraph (d)(2) of this AD does not apply. You must make an entry into the aircraft records that shows compliance with this portion of the AD, in accordance with section 43.9 of the Federal Aviation Regulations (14 CFR 43.9)
(2) Replacement: Replace any elevator skin assembly (particular part numbers referenced in the applicable service information) that Raytheon shipped anytime from January 1, 1999, through December 31, 1999. Paragraphs (d)(1)(i) and (d)(1)(ii) of this AD provide procedures for checking the maintenance records to determine if one of the affected elevator skin assemblies is installed | Within 1 month after September 22, 2000 (the effective date of this AD) | Accomplish this replacement in accordance with the ACCOMPLISHMENT INSTRUCTIONS section of Raytheon Mandatory Service Bulletin SB 27-3396, Rev. 1, Issued: May, 2000; Revised: June, 2000.
(3) Installation Prohibition: You may not install any elevator skin assembly (particular part numbers, referenced in the applicable service information) that Raytheon shipped anytime from January 1, 1999, through December 31, 1999, in any of the affected airplanes | As of September 22, 2000 (the effective date of this AD) | Not Applicable.

(e) Can I comply with this AD in any other way? You may use an alternative method of compliance or adjust the compliance time if:

(1) Your alternative method of compliance provides an equivalent level of safety; and

(2) The Manager, Wichita (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Gary D. Park, Aerospace Engineer, FAA, Wichita Aircraft Certification Office, 1801 Airport Road, Mid-Continent Airport, Wichita, Kansas 67209; telephone: (314) 946-4123; facsimile: (314) 946-4407.

(g) What if I need to fly the airplane to another location to comply with this AD? The FAA can issue a special flight permit under sections 21.197 and 21.199 of the Federal Aviation Regulations (14 CFR 21.197 and 21.199) to operate your airplane to a location where you can accomplish the requirements of this AD, provided that the following is complied with:

(1) Pass the tap test inspection specified in Raytheon Mandatory Service Bulletin SB 27-3396, Rev. 1, Revised: June, 2000; and

(2) Restrict airspeed to maneuvering speed.

(h) Are any service bulletins incorporated into this AD by reference? You must accomplish the replacement required by this AD in accordance with Raytheon Mandatory Service Bulletin SB 27-3396, Rev. 1, Revised: June, 2000. The Director of the Federal Register approved this incorporation by reference under 5 U.S.C. 552(a) and 1 CFR part 51. You can get copies from Raytheon Aircraft Company, P.O. Box 85, Wichita, Kansas 67201. You can look at copies at FAA, Central Region, Office of the Regional Counsel, 901 Locust, Room 506, Kansas City, Missouri, or at the Office of the Federal Register, 800 North Capitol Street, NW, suite 700, Washington, DC.

(i) When does this amendment become effective? This amendment becomes effective on September 22, 2000.

Issued in Kansas City, Missouri, on August 24, 2000.
Michael Gallagher,
Manager, Small Airplane Directorate, Aircraft Certification Service.

[FR Doc. 00-22427 Filed 9-6-00; 8:45 am]

BILLING CODE 4910-13-U